DEPARTMENT OF THE INTERIOR

Fish and Wildlife Service

Lacreek National Wildlife Refuge and Wetland Management District

AGENCY: Fish and Wildlife Service, Interior.

ACTION: Notice of availability of final comprehensive conservation plan and environmental assessment; request for comments.

SUMMARY: The U.S. Fish and Wildlife Service (Service) announces that a Comprehensive Conservation Plan (CCP) for Lacreek National Wildlife Refuge (Refuge) and Wetland Management District (WMD) is available. This CCP describes how the Service intends to manage this Refuge and WMD for the next 15 years.

DATES: Written comments must be received at the postal or electronic address listed below on or before February 12, 2007.

ADDRESSES: A copy of the CCP or Summary may be obtained by writing to U.S. Fish and Wildlife Service, Division of Refuge Planning, 134 Union Boulevard, Suite 300, Lakewood, CO 80228; or downloaded from http://mountain-prairie.fws.gov/planning.

FOR FURTHER INFORMATION CONTACT: Michael Spratt, Planning Team Leader, U.S. Fish and Wildlife Service, telephone 303-236-4366; fax 303-236-4792; or e-mail: Michael_spratt@fws.gov.

SUPPLEMENTARY INFORMATION: This Refuge was established in 1935 by President Franklin D. Roosevelt through Executive Order No. 7160 “* * * as a refuge and breeding ground for migratory birds and other wildlife.” The Refuge lies in the Lake Creek Valley on the northern edge of the Nebraska Sandhills and includes 16,410 acres of native sandhills, sub-irrigated meadows, impounded fresh water marshes, and tall and mixed-grass prairie uplands.

The WMD was started as part of the Small Wetlands Acquisition Program, in the 1950s, to save wetlands from various threats, particularly draining. The passage of Public Law 85-585, in August of 1958, amended the Migratory Bird Hunting and Conservation Stamp Act (Duck Stamp Act) of 1934, allowing for the acquisition of Waterfowl Production Areas and Easements for Waterfowl Management Rights (easements). The WMD is located in Stanley, Todd, Harding, Jackson, Jones, Lawrence, Lyman, Meade, Mellette, Fall River, Haakon, Custer, Pennington, Bennett, and Butte counties of South Dakota.

We announced the availability of the draft CCP and Environmental Assessment (EA) for a 30-day public review and comment period in the Federal Register on January 13, 2006 (71 FR 2264-2265). The Draft CCP was sent to more than 60 Tribal governments, State of Utah officials, state and federal congressional delegates, other federal agencies, city and county officials, public citizens, non-governmental organizations, private businesses and consulting companies, community colleges and universities, and public libraries. During the 30-day public review period, we received 18 written comments and held a public meeting in Martin, South Dakota. No substantive changes were made to the document based on public comments.

The Draft CCP/EA identified and evaluated three management alternatives for managing the Refuge and the WMD for the next 15 years. Alternative A, the No Action Alternative, would continue current management of the Refuge. Alternative B, Integrated Restoration, the Proposed Action, would strive to restore ecological processes and achieve habitat conditions that require reduced management over time, recognizing the place of the refuge in the overall landscape and community. Alternative C, Comprehensive Grassland Restoration, would focus management on restoration of grassland habitat and its associated species. Based on this assessment and comments received, Alternative B was selected for implementation. We selected the preferred alternative (Alternative B) because it best meets the purposes for which the Refuge and the WMD were established, and is preferable to the “no action” alternative and Alternative C in light of physical, biological, economic, and social factors. The preferred alternative will continue to provide public access for wildlife-dependent recreation, environmental education, and interpretation.

As part of this plan, we developed a black-tailed prairie dog management plan for the Refuge. Management will include any activity conducted to control the size of prairie dog towns, maintain habitat suitability for black-tailed prairie dogs, and/or ensure the long-term viability of black-tailed prairie dogs at the Refuge, within a biologically and socially compatible zone over the next 15 years.

The Service is furnishing this notice to advise other agencies and the public of the availability of the Final CCP, to provide information on the desired conditions for the Refuge and the WMD, and to detail how the Service will implement management strategies. Based on the review and evaluation of the information contained in the environmental assessment, the Regional Director has determined that implementation of the Final CCP does not constitute a major Federal action that would significantly affect the quality of the human environment within the meaning of Section 102(2)(C) of the National Environmental Policy Act. Therefore, we will not prepare an Environmental Impact Statement.

Dated: May 23, 2006.
James J. Slack,
Deputy Regional Director, Region 6, Denver, CO.

Editorial Note: This document was received by the Office of the Federal Register December 8, 2006.

[FR Doc. E6-21216 Filed 12-12-06; 8:45 am]

BILLING CODE 4310-55-P